DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

Proposed Project: 340B Drug Pricing Program Survey—NEW

Section 340B of the Public Health Act provides that a manufacturer that sells outpatient drugs to covered entities must agree to charge a price that will not exceed the amount determined under a statutory formula. The entities eligible to access such drug pricing (i.e., certain HHS grantees, certain disproportionate share hospitals, and other specified categories of entities) total approximately 10,000 sites. Most of these safety net providers serve the economically disadvantaged or medically uninsured.

A customer survey is being developed to collect information by mail on various aspects of the 340B Drug Pricing Program, including whether information on the program is reaching the covered entities, reasons some entities are not participating, satisfaction with the savings realized, and interest in possible modifications to the program. Both participating and nonparticipating entities will be included in the survey. The results will be used to improve the design and management of the program.

The estimated response burden is as follows:

Respondents | Number of respondents | Responses per respondent | Total responses | Minutes per response | Total burden hours
Non-participation | 283 | 1 | 283 | 0.2 | 57
Participation | 567 | 1 | 567 | 1 | 567
Total | 850 |  | 850 |  | 624

Written comments and recommendations concerning the proposed information collection should be sent within 30 days of this notice to: Allison Eydt, Human Resources and Housing Branch, Office of Management and Budget, New Executive Office Building, Room 10235, Washington, DC 20503, Fax Number, 202-395-6974.

Dated: July 24, 2003.
Jane M. Harrison,
Director, Division of Policy Review and Coordination.

[FR Doc. 03-19447 Filed 7-30-03; 8:45 am]

BILLING CODE 4165-15-P